SMALL BUSINESS ADMINISTRATION

[Declaration of Disaster #3275]

State of Tennessee

Wilson County and the contiguous counties of Cannon, Davidson, De Kalb, Rutherford, Smith, Sumner, and Trousdale in the State of Tennessee constitute a disaster area due to damages caused by a fire that occurred on July 24, 2000, in the City of Lebanon. Applications for loans for physical damage as a result of this disaster may be filed until the close of business on October 2, 2000 and for economic injury until the close of business on May 1, 2001 at the address listed below or other locally announced locations: Small Business Administration, Disaster Area 2 Office, One Baltimore Place, Suite 300, Atlanta, GA 30308.

The interest rates are:

| Percent
For Physical Damage:
Homeowners With Credit Available Elsewhere | 7.375
Homeowners Without Credit Available Elsewhere | 3.687
Businesses With Credit Available Elsewhere | 8.000
Businesses and Non-Profit Organizations Without Credit Available Elsewhere | 4.000
Others (Including Non-Profit Organizations) With Credit Available Elsewhere | 6.750
For Economic Injury:
Businesses and Small Agricultural Cooperatives Without Credit Available Elsewhere | 4.000

The numbers assigned to this disaster are 327505 for physical damage and 9I0200 for economic injury.

(Catalog of Federal Domestic Assistance Program Nos. 59002 and 59008)

Dated: August 1, 2000.
Aida Alvarez,
Administrator.

[FR Doc. 00-20389 Filed 8-10-00; 8:45 am]

BILLING CODE 8025-01-P